DEPARTMENT OF EDUCATION

[Docket ID ED-2012-OESE-0004]

RIN 1810-AB14

Comprehensive Centers Program

AGENCY: Office of Elementary and Secondary Education, Department of Education.

ACTION: Notice of proposed priorities, requirements, and selection criteria.

Catalog of Federal Domestic Assistance (CFDA) Number: 84.283B.

SUMMARY: The Assistant Secretary for Elementary and Secondary Education (Assistant Secretary) proposes priorities, requirements, and selection criteria under the Comprehensive Centers program. The Assistant Secretary may use these priorities, requirements, and selection criteria for competitions in fiscal year (FY or fiscal year) 2012 and later years. We intend to use the priorities, requirements, and selection criteria to provide Federal financial assistance to eligible applicants seeking to provide technical assistance to help State educational agencies (SEAs) build their capacity to implement State-level initiatives and to support district- and school-level initiatives that improve educational outcomes for all students, close achievement gaps, and improve the quality of instruction.

DATES: We must receive your comments on or before February 22, 2012.

ADDRESSES: Submit your comments through the Federal eRulemaking Portal or via U.S. mail, commercial delivery, or hand delivery. We will not accept comments by fax or by email. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to Use This Site.”

• U.S. Mail, Commercial Delivery, or Hand Delivery: If you mail or deliver your comments about this notice of proposed priorities, requirements, and selection criteria, address them to Fran Walter, U.S. Department of Education, 400 Maryland Avenue SW., room 3W115, Washington, DC 20202-6132.

Privacy Note: The U.S. Department of Education's (Department) policy is to make all comments received from members of the public available for public viewing in their entirety on the Federal eRulemaking Portal at www.regulations.gov. Therefore, commenters should be careful to include in their comments only information that they wish to make publicly available.

FOR FURTHER INFORMATION CONTACT: Fran Walter. Telephone: (202) 205-9198, or by email: Fran.Walter@ed.gov.

If you use a telecommunications device for the deaf (TDD), or a text telephone (TTY), call the Federal Relay Service (FRS), toll free, at 1-(800) 877-8339.

SUPPLEMENTARY INFORMATION: Invitation to Comment: We invite you to submit comments regarding this notice. To ensure that your comments have maximum effect in developing the notice of final priorities, requirements, and selection criteria, we urge you to identify clearly the specific proposed priority, requirement, or selection criterion that each comment addresses.

We invite you to assist us in complying with the specific requirements of Executive Orders 12866 and 13563 and their overall requirement of reducing regulatory burden that might result from these proposed priorities, requirements, and selection criteria. Please let us know of any further opportunities we could take to reduce potential costs or increase potential benefits while preserving the effective and efficient administration of the program.

During and after the comment period, you may inspect all public comments about the proposed priorities, requirements, and selection criteria in room 3W115, 400 Maryland Avenue SW., Washington, DC, between the hours of 8:30 a.m. and 4 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The Comprehensive Centers program supports the establishment of no fewer than 20 comprehensive technical assistance centers to provide technical assistance to SEAs that builds their capacity to support local educational agencies (LEAs or districts) and schools, especially low-performing districts and schools, improve educational outcomes for all students, close achievement gaps, and improve the quality of instruction.

Program Authority: Title II, section 203, of the Education Technical Assistance Act of 2002 (ETAA).

I. Background

The Elementary and Secondary Education Act of 1965, as amended (ESEA), holds States accountable for closing achievement gaps and ensuring that all children, regardless of race, ethnicity, family income, English language proficiency, or disability, receive a high-quality education and meet challenging State academic standards.

The ETAA authorizes support for no fewer than 20 Comprehensive Centers to provide training, technical assistance, and professional development to SEAs, LEAs, regional educational agencies, and schools in the administration and implementation of programs under the ESEA. Under section 203(a)(2) of the ETAA, the Department is required to establish at least one center in each of the 10 geographic regions served by the Department's Regional Educational Laboratories (RELs). Resources for centers established under the ETAA are determined on the basis of the number of school-aged children in each region, the proportion of economically disadvantaged students in each region, the higher cost of service delivery in sparsely populated areas, and the number of schools identified for improvement under section 1116(b) of the ESEA in each region.

The Department conducted the initial competition under the ETAA in 2005 and made 5-year awards to 16 Regional Centers and 5 Content Centers. Each of the five Content Centers specialized in one of the following five areas: assessment and accountability, instruction, teacher quality, innovation and improvement, or high schools.

The 16 Regional Centers focused almost entirely on helping SEAs implement ESEA requirements and increase capacity to assist their districts and schools in meeting student achievement goals. Each of the five Content Centers identified and analyzed key research and provided in-depth information in its area of expertise to the Regional Centers and SEAs. The Content Centers have more recently emphasized assisting the Regional Centers in using publications and tools to support State reform efforts, typically through webinars, the creation and support of online communities of practice, and in-person assistance to both SEA and Regional Center staff.

In FYs 2010 and 2011, the Department extended the project period of the existing centers and negotiated new cooperative agreements with each center. These cooperative agreements retained the emphasis of the Regional Centers on building SEA capacity to support districts and schools in meeting student achievement goals. The agreements also retained the emphasis of the Content Centers on providing research-based publications and tools that include information, guidance, analyses, and services to inform the activities of the Regional Centers. At the same time, the agreements recognized that many States were initiating innovative reforms, such as adopting college- and career-ready standards, developing next-generation accountability systems, and implementing innovative mechanisms for improving teacher and leader effectiveness.

The Comprehensive Centers will provide technical assistance at a time when States, districts, and schools are moving forward with innovative approaches to significantly improve student outcomes and are implementing college- and career-ready standards and assessments; next-generation accountability systems that focus on turning around the lowest-performing schools and closing achievement gaps; and human capital management systems that support effective teachers and leaders.

The Department believes that the best way to support these State-led reforms, consistent with the requirements of both the ESEA and the ETAA, is to focus the Comprehensive Centers funded under this program on building SEA capacity. In particular, we believe the centers must focus on helping SEAs (1) create sustainable organizational structures and performance management systems that support key initiatives and help them set priorities for using their resources, (2) increase their ability to use those structures and systems to ensure that districts and schools are provided with high-quality services and supports, (3) support the implementation and scaling up of innovative and effective strategies in districts and schools, (4) identify and implement a continuum of supports and interventions to address the specific and varying needs of districts and schools, and (5) ensure the sustainability of State-led reforms.

Regional and Content Centers. The Comprehensive Centers competition would encompass both Regional Centers and Content Centers, retaining the program's two-tiered approach to helping SEAs build their capacity to implement State-level initiatives and support district- and school-level initiatives that improve educational outcomes for all students, close achievement gaps, and improve the quality of instruction. Regional Centers would be the direct link to States. They would respond to States' needs by providing relevant technical assistance and expert advice and helping them implement, support, scale up, and sustain statewide reforms. Regional Centers would also make expert advice available to States from Content Centers, other Department-funded technical assistance providers, and other individuals and organizations. In addition, under the proposed priorities, requirements, and selection criteria, Regional Centers would be expected to have a broad understanding of the context and status of education reform in each of the States they serve and to maintain a regular and highly visible presence in the region. They would also be expected to develop strong relationships and partnerships within each State and across their regional communities that are likely to ensure the delivery of high-quality, relevant, and useful technical assistance.

The Department is proposing to further focus technical assistance from Regional Centers on key areas that correspond to State-led reforms already underway across the Nation: implementing college- and career-ready standards and aligned, high-quality assessments for all students; identifying, recruiting, developing, and retaining highly effective teachers and leaders; turning around the lowest-performing schools; ensuring the school readiness and success of preschool-age children and their successful transition to kindergarten-through-grade-three (K-3) learning; building rigorous instructional pathways that support the successful transition of all students from secondary education to college without the need for remediation, and to careers; identifying and scaling up innovative approaches to teaching and learning that significantly improve student outcomes; and using data-based decision-making to improve instructional practices, policies, and student outcomes.

In turn, the Content Centers funded under this program would work to increase the depth of knowledge and expertise available to Regional Centers and SEAs in key topic areas. Content Centers would complement the work of the Regional Centers by providing information, publications, tools, and specialized technical assistance based on research-based practices, as well as emerging promising-practices. Generally, research-based practices are practices that meet the strong or moderate evidence standards of the What Works Clearinghouse (http://ies.ed.gov/ncee/wwc/). Where strong or moderate evidence is not available on a topic, each center will explore emerging promising practices that could inform their technical assistance efforts. The Content Centers also would play a key role in improving efficiency in developing and disseminating technical assistance by, for example, avoiding the duplication and higher costs of parallel efforts by two or three Regional Centers.

To support these and other efforts, the Assistant Secretary is proposing in this notice funding priorities for seven Content Centers: (1) The Center on Standards and Assessments Implementation, (2) the Center on Great Teachers and Leaders, (3) the Center on School Turnaround, (4) the Center on Enhancing Early Learning Outcomes, (5) the Center on College and Career Readiness and Success, (6) the Center on Building State Capacity and Productivity, and (7) the Center on Innovations in Learning.

The Comprehensive Centers program represents a significant investment in technical assistance to SEAs. The Department is committed to supporting SEAs, districts, and schools as they work to implement their own reform priorities in the context of Federal program requirements. Therefore, the Department intends to have substantial and sustained involvement in the activities of all centers to ensure that they are responsive to State needs. The details and parameters of the Department's expectations and involvement will be included in a cooperative agreement with each grantee.

Regional Advisory Committees. To help inform the priorities that we are proposing under this program, the Secretary of Education (the Secretary) (in accordance with section 206 of the ETAA) in 2011 established 10 Regional Advisory Committees (RACs) charged with conducting educational needs assessments within the geographic regions served by the current RELs.

The RACs conducted their needs assessments from June 2011 to August 2011 and submitted their reports to the Secretary on November 15, 2011. The full reports are available at: http://www2.ed.gov/programs/newccp/resources.html.

Potential applicants for the centers are encouraged to consider the specific educational needs assessment results and recommendations contained in the RAC reports when preparing their applications.

II. Proposed Priorities

This notice contains nine proposed priorities. The Assistant Secretary may use one or more of these priorities for the FY 2012 Comprehensive Centers program competition or for any subsequent competitions. We may choose in the notice of final priorities, requirements, and selection criteria to include the substance of these priorities in the selection criteria.

Proposed Priority for Regional Centers

Proposed Priority 1: Regional Centers. Each Regional Center must provide high-quality technical assistance that focuses on key initiatives, aligns with the work of the Content Centers, and builds the capacity of SEAs to implement, support, scale up, and sustain initiatives statewide and to lead and support their LEAs and schools in improving student outcomes. Key initiatives include: (1) Implementing college- and career-ready standards and aligned, high-quality assessments for all students; (2) identifying, recruiting, developing, and retaining highly effective teachers and leaders; (3) turning around the lowest-performing schools; (4) ensuring the school readiness and success of preschool-age children and their successful transition to kindergarten; (5) building rigorous instructional pathways that support the successful transition of all students from secondary education to college without the need for remediation, and careers; (6) identifying and scaling up innovative approaches to teaching and learning that significantly improve student outcomes; and (7) using data-based decision-making to improve instructional practices, policies, and student outcomes.

Proposed Priorities for Content Centers

Proposed Priority 2: Center on Standards and Assessments Implementation. The Center on Standards and Assessments Implementation must provide technical assistance and identify, synthesize, and disseminate research-based practices and emerging promising practices that will lead to the increased capacity of SEAs to support their districts and schools in implementing rigorous college- and career-ready standards and aligned high-quality assessments.

Proposed Priority 3: Center on Great Teachers and Leaders. The Center on Great Teachers and Leaders must provide technical assistance and identify, synthesize, and disseminate research-based practices and emerging promising practices that will lead to the increased capacity of SEAs to support their districts and schools in improving student outcomes by supporting effective instruction and leadership.

Proposed Priority 4: Center on School Turnaround. The Center on School Turnaround must provide technical assistance and identify, synthesize, and disseminate research-based practices and emerging promising practices that will lead to the increased capacity of SEAs to support their districts and schools in turning around their lowest-performing schools.

Proposed Priority 5: Center on Enhancing Early Learning Outcomes. The Center on Enhancing Early Learning Outcomes must provide technical assistance and identify, synthesize, and disseminate research-based practices and emerging promising practices that will lead to the increased capacity of SEAs to implement comprehensive and aligned preschool-to-third-grade early learning systems in order to increase the number of children from birth to third grade who are prepared to succeed in school.

Proposed Priority 6: Center on College and Career Readiness and Success. The Center on College and Career Readiness and Success must provide technical assistance and identify, synthesize, and disseminate research-based practices and emerging promising practices that will lead to the increased capacity of SEAs to support districts and schools in implementing comprehensive strategies that promote college- and career-readiness for students in kindergarten through grade 12 (K-12) and ensure the successful transition of all students from high school graduation to postsecondary education and the workforce.

Proposed Priority 7: Center on Building State Capacity and Productivity. The Center on Building State Capacity and Productivity must provide technical assistance and identify, synthesize, and disseminate research-based practices and emerging promising practices that will increase the capacity of SEAs to implement their key initiatives statewide and support district- and school-level implementation of effective practices to improve student outcomes.

Proposed Priority 8: Center on Innovations in Learning. The Center on Innovations in Learning must provide technical assistance and identify, synthesize, and disseminate research-based practices and emerging promising practices that will lead to the increased capacity of SEAs to identify and scale up innovative approaches that significantly improve, or have the potential to significantly improve, student outcomes.

Proposed Priority for All Centers

Proposed Competitive Preference Priority 9: Cost-Sharing or Matching.

Background: Many national, regional, and local foundations, civic organizations, and corporations are currently investing in building SEA and district capacity to implement comprehensive education reforms. We believe that combining the Department's efforts and resources with these external efforts and resources will help increase and extend the reach of the Comprehensive Centers program. Therefore, we are proposing a competitive preference priority for applicants that provide evidence of a commitment from a partner or partners of funds or an in-kind match, or both, that totals at least 15 percent of the total grant budget. The Department believes that applicants who partner with these types of private or public entities and secure a financial or in-kind commitment of at least 15 percent of their proposed budget will be in a better position to support States in building their capacity.

Proposed Competitive Preference Priority 9: To meet this priority, an applicant must provide evidence in the application of a commitment of a matching contribution, in funds or in kind, or both, of at least 15 percent of its total grant budget from one or more entities or organizations in the public or private sector, which may include philanthropic organizations. The entire amount of the matching contribution must be non-Federal funds. See 34 CFR 80.24. Evidence of the commitment of the financial or in-kind matching contribution must include the full amount and source of the matching contribution, and the date that the funds or in-kind contributions will be received. Examples of such evidence include funding agreements with a public or private-sector entity, or other signed documents such as commitment letters. The evidence should not include contingencies that raise concerns about the funding commitment other than that the applicant must be awarded a Comprehensive Centers grant award. An award will not be made unless the applicant provides evidence that the full amount of the match has been committed.

If an applicant provides evidence of matching funds or in-kind contributions in excess of 15 percent of its grant budget, an applicant may receive additional points. Additional points may be awarded to the extent that the applicant provides evidence of a committed financial or in-kind matching contribution up to 100 percent of its grant budget. The Department will specify in the notice inviting applications the number of points to be awarded for specific ranges of matching amounts.

Types of Priorities

When inviting applications for a competition using one or more priorities, and unless already established as a specific type of priority through regulation, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

III. Proposed Comprehensive Center Requirements

A. Proposed Requirements for All Centers

1. Provide high-quality technical assistance. Each center must deliver technical assistance that is based on research-based practices and emerging promising practices; highly relevant and useful to SEAs, LEAs, and school policymakers and practitioners; timely; and cost efficient.

2. Provide technical assistance to build State capacity. Each center must provide technical assistance to help SEAs build their capacity to implement State-level initiatives and support district- and school-level initiatives that improve educational outcomes for all students, close achievement gaps, and improve the quality of instruction.

For the purposes of this notice, the process of “building capacity” includes helping SEAs—

a. Build internal organizational strength through such activities as creating sustainable organizational structures and effective performance management systems, building staff expertise within those structures to ensure that districts and schools are provided high-quality services and supports, and better aligning programs and policies through strengthening connections (e.g., communication, collaboration) among different work streams (e.g., divisions, grant programs); and

b. Build organizational capacity to support district- and school-level implementation of effective practices to improve student outcomes—for example, by working collaboratively and productively with districts and schools; identifying and implementing a continuum of supports and interventions to address the needs of districts and schools; supporting the implementation and scaling up of innovative and effective strategies; sustaining effective practices; engaging effective external service providers; and involving key stakeholders, including parents, in decisionmaking.

3. Coordination and Collaboration. In addition to the statutory requirement under section 203(f)(2) of the ETAA to collaborate with the Department and other entities, each center must collaborate with other Comprehensive Centers funded under this program; the Institute of Education Sciences (IES), including the What Works Clearinghouse and the RELs; technical assistance centers funded under other Department programs; and other technical assistance providers to address SEA needs. Each center must—

a. Develop strong, ongoing relationships and partnerships with leading experts and organizations nationwide to supplement and enhance, as appropriate, center staff's expertise, skills, and experience and to ensure that technical assistance is informed by research-based practices and emerging promising practices;

b. Coordinate center activities with the work of other technical assistance providers to make the best use of available knowledge and resources and avoid duplicating efforts; and

c. Participate in sharing and exchanging information through a common online portal administered by a center funded by the Department for the purpose of sharing technical assistance expertise, materials, and other applicable resources across Comprehensive Centers, other Department-funded technical assistance providers, SEAs, districts, and schools.

4. Evaluation. Each center must develop a plan to engage a third party to assess the progress and performance of the center in meeting the educational and capacity-building needs of the center's clients.

B. Proposed Requirements for All Regional Centers

In addition to the requirements for all centers described in this notice, each Regional Center must—

1. Assess each State's needs and develop an annual work plan in partnership with each SEA in its region and the Content Centers, as appropriate, that—

a. Provides technical assistance to build SEA capacity to implement, support, scale up, and sustain initiatives that address the following key areas: (1) Implementing college- and career-ready standards and aligned, high-quality assessments for all students; (2) identifying, recruiting, developing, and retaining highly effective teachers and leaders; (3) turning around the lowest-performing schools; (4) ensuring the school-readiness and success of preschool-age children and their successful transition to K-3 learning; (5) building rigorous instructional pathways that support the successful transition of all students from secondary education to college, without the need for remediation, and to careers; (6) identifying and scaling up innovative approaches to teaching and learning that significantly improve, or have potential to significantly improve, student outcomes; and (7) using data-based decisionmaking to improve instructional practices, policies, and student outcomes;

c. Addresses the needs of each SEA in the region based on the SEA's unique context, challenges, and current capacity;

d. Articulates the commitment by the center and the SEA to devote time, leadership, and personnel needed to implement the work plan;

e. Addresses the demands of implementing integrated State longitudinal data systems and using data from these systems and other sources to improve student outcomes, in collaboration with RELs, as appropriate; and

f. Addresses the needs of all students, including English Learners, students with disabilities, and low-achieving students;

2. Deliver high-quality intensive technical assistance to SEAs that—

a. Provides regular virtual and on-site support and coaching at a frequency appropriate to ensuring high-quality implementation of the work plan;

b. Facilitates collaborative activities and strategies for evaluating and continuously improving organizational structures and processes;

c. Draws on the expertise of the Center on Building State Capacity and Productivity;

d. Facilitates productive SEA interactions with LEAs and other stakeholders to support implementation of key initiatives focused on improving student outcomes;

e. Helps SEAs implement researched-based practices and emerging promising practices identified by the Content Centers and other leading experts and organizations nationwide; and

f. Provides opportunities for SEAs to meet with and learn from researchers, experts, and each other about practical and effective strategies for implementing key initiatives, including by, for example, organizing or facilitating SEA participation in communities of practice; and

3. Make all training materials, rubrics, manuals, presentations, and other materials developed during the grant period publicly and freely available through the online portal described in the coordination and collaboration requirement for all centers.

Note: The requirements for all Regional Centers do not support the development of new content. A Regional Center applicant will not satisfy these requirements if it proposes a technical assistance plan that includes development work, such as designing or developing curricula or instructional materials for use in classrooms, developing educational programs, or conducting research, monitoring, or program evaluations for an SEA. A Regional Center may propose to create materials to be used in capacity-building activities with the SEA, such as decision matrices, written responses to information requests, self-assessment rubrics, or presentation materials. In addition, to the extent that an applicant proposes to work with individual school districts or schools, the applicant must propose technical assistance that reaches a large number or proportion of districts or schools in the State, responds to a need identified by an SEA, and is planned, coordinated, and executed in concert with the SEA.

C. Proposed Requirements for All Content Centers

In addition to the proposed requirements for all centers described in this notice, each Content Center must—

1. Assess national needs and develop an annual work plan that—

a. Takes into account the needs of SEAs and Regional Centers in its area of expertise;

b. Addresses its specific area of expertise; and

c. Addresses the needs of all students, including English Learners, students with disabilities, and low-achieving students;

2. Deliver high-quality technical assistance to Regional Centers and SEAs in its area of expertise that—

a. Reflects collaboration with Regional Centers to address identified needs of SEAs;

b. Provides opportunities for SEAs to learn from researchers, experts, and each other by, for example, participating in, organizing, or facilitating SEA participation in communities of practice; and

c. Differentiates the delivery of technical assistance based on the current capacity and needs of the Regional Centers and SEAs;

3. Translate expertise, research-based practices and emerging promising practices into high-quality publications, tools, and services appropriate for SEAs, LEAs, and school policymakers and practitioners; and

4. Make all training materials, rubrics, manuals, presentations, and other materials developed during the grant period publicly and freely available through the online portal described in the coordination and collaboration requirement for all centers.

D. Proposed Requirements for the Center on Standards and Assessments Implementation

In addition to the proposed requirements for all centers and for all Content Centers described in this notice, the Center on Standards and Assessments Implementation must provide technical assistance to Regional Centers and SEAs that focuses on—

1. State implementation of college- and career-ready standards for students and schools statewide, as well as State development and administration of aligned high-quality assessments such as those under development by the Race to the Top Assessment program grantees (http://www.2.ed.gov/programs/racetothetop-assessment/index.html) and by General Supervision Enhancement Grants (GSEG) program grantees, who are developing alternate assessments based on alternate academic achievement standards for students with the most significant cognitive disabilities;

2. The instructional implications of transitioning to new standards, including the need for aligned, high-quality instructional materials and high-quality professional development and other supports to prepare teachers to teach all students, including English Learners, students with disabilities, and low-achieving students, to college- and career-ready standards;

3. Integrating new standards and assessments with State accountability systems and State, district, and school teacher and leader support and evaluation systems; and

4. Using assessment data and other measures of student performance to inform instruction, differentiate school performance levels, and evaluate district and school improvement policies and activities.

E. Proposed Requirements for the Center on Great Teachers and Leaders

In addition to the proposed requirements for all centers and for all Content Centers described in this notice, the Center on Great Teachers and Leaders must provide technical assistance to Regional Centers and SEAs that focuses on—

1. Developing the knowledge and skills of teachers and leaders, with emphasis on improving instructional practices that help students meet college- and career-ready standards;

2. Strategies to ensure the equitable distribution of effective teachers and to meet demand in hard-to-staff schools and subjects and in rural areas;

3. Strategies to recruit, reward, retain, and support effective teachers and leaders by, for example, offering opportunities for career advancement;

4. Developing and implementing teacher and leader human capital management systems (e.g., systems related to recruiting, evaluating, developing, rewarding, and retaining teachers and leaders), including teacher and leader evaluation and support systems that use multiple valid measures of effectiveness (including student growth and other measures of professional performance), differentiate performance levels, inform professional development needs, and focus on continuously improving instruction for teachers in both tested and non-tested grades and subjects, including teachers of English learners and students with disabilities; and

5. Using data from human capital management systems, State longitudinal data systems, and other sources to guide professional development and improve instruction.

F. Proposed Requirements for the Center on School Turnaround

In addition to the proposed requirements for all centers and for all Content Centers described in this notice, the Center on School Turnaround must provide technical assistance to Regional Centers and SEAs that focuses on—

1. Developing and strengthening organizational systems and structures that promote and sustain comprehensive district and school reforms that lead to significant gains in student outcomes and close achievement gaps in the lowest-performing schools;

2. Developing effective tools, processes, and policies for States to monitor and support district and school efforts to turn around the lowest-performing schools; the tools, processes, and policies could include ways to select and monitor external providers, support and develop turnaround leaders, and analyze and use data;

3. Collecting and disseminating information and resources on successful school turnaround models;

4. Collecting and disseminating information and resources on promising and emerging State, district, and school approaches to: (a) Improving student outcomes and closing achievement gaps, (b) addressing non-academic factors that impact student achievement, such as students' social, emotional, and health needs, and (c) sustaining improvements across a broad spectrum (e.g., urban, rural, high-poverty) of the lowest-performing schools and across student populations (e.g., English Learners, students with disabilities); these approaches may include extending learning time; and

4. Facilitating support networks and ongoing learning opportunities for SEAs, LEAs, and school policymakers and practitioners serving the lowest-performing schools, which may include managing and supporting an online community of practice.

G. Proposed Requirements for the Center on Enhancing Early Learning Outcomes

In addition to the proposed requirements for all centers and for all Content Centers, the Center on Enhancing Early Learning Outcomes must provide technical assistance to Regional Centers and SEAs that focuses on—

1. Aligning preschool and K-3 education policies and systems in order to increase successful transitions as children enter kindergarten and to close the achievement gap, particularly for children with high needs;

2. Increasing knowledge and expertise among SEA staff and among State-level early learning program staff in understanding the purposes and uses of a full range of early childhood assessment strategies and instruments and in selecting assessment instruments and approaches that are appropriate for all children, including English Learners, students with disabilities, and low-achieving students;

3. Using assessment data and other information to improve the quality of instruction in early learning programs;

4. Increasing the effectiveness of the early learning workforce—for example, by assisting SEAs in developing and implementing statewide workforce knowledge and competency frameworks designed to support children's learning and development and improve outcomes; supporting more robust early childhood educator preparation and professional development efforts; and developing a common, statewide progression of teaching credentials and degrees aligned with the State frameworks; and

5. Working to integrate and align resources and policies across State agencies and programs to support a coordinated statewide system that promotes children's success in school.

H. Proposed Requirements for the Center on College and Career Readiness and Success

In addition to the proposed requirements for all centers and for all Content Centers described in this notice, the Center on College and Career Readiness and Success must provide technical assistance to Regional Centers and SEAs that focuses on—

1. Policies and practices that—

a. Support the successful transition of all students from secondary education to college, without the need for remediation, and to careers; and

b. Increase postsecondary enrollment, persistence, and completion—for example, by assisting SEAs in aligning secondary and postsecondary learning expectations, strengthening the rigor of high school courses and pathways, and providing college counseling;

2. SEA development and scaling up of statewide rigorous career and technical education (CTE) programs that align with college- and career-ready standards and lead to an industry-recognized credential or postsecondary certificate or degree—for example, by implementing high-quality, academically rigorous CTE programs and courses; providing high school credits for work-based learning opportunities; providing college credit for secondary school academic and technical courses through statewide secondary-postsecondary articulation agreements; implementing career counseling services that incorporate the most up-to-date information on existing and emerging in-demand industry sectors and occupations; and aligning CTE programs and priorities with State and local economic development strategies, industry standards in existing and emerging in-demand industry sectors and occupations, and job growth data;

3. High-quality science, technology, engineering, and mathematics (STEM) instruction that supports and challenges students through a progression of STEM courses and the transition to postsecondary degree and certificate programs in STEM fields;

4. Implementing accelerated learning strategies such as dual-credit and early college options, General Educational Development (GED)-to-college pathways, competency-based pathways, and other programs designed to encourage and support the successful transition of all students, especially disadvantaged and first-generation college-going students, dropouts who re-enter school, and students with disabilities, from secondary school into postsecondary education or training programs; and

5. Effectively using data—for example, using early warning and college- and career-readiness indicators to identify secondary school students needing additional support, or implementing approaches, consistent with Federal, State, and local privacy laws and regulations, to allow data to be shared between LEAs and postsecondary institutions to improve student transitions.

I. Proposed Requirements for the Center on Building State Capacity and Productivity

In addition to the proposed requirements for all centers and for all Content Centers described in this notice, the Center on Building State Capacity and Productivity must provide technical assistance to Regional Centers and SEAs that focuses on—

1. Building the internal organizational capacity of SEAs by—

a. Supporting the implementation of sustainable organizational structures and effective performance management systems that help SEAs support key education initiatives and set priorities for using their resources;

b. Helping SEAs build their staffs' leadership skills and expertise so that staff can effectively lead and support education initiatives and ensure that districts and schools are provided with high-quality services and supports;

c. Helping SEAs strengthen information sharing across organizational units within SEAs in order to facilitate cross-cutting work that increases the success of State- and district-level initiatives designed to improve student outcomes and that enhances the sustainability of these initiatives;

d. Helping SEAs make more efficient use of scarce resources—for example, by measuring and comparing the costs of similar systems, processes, programs, and products; and

e. Identifying State- and district-level research-based practices and emerging promising practices in such areas as human capital management, financial data systems, and return-on-investment analyses that can inform decision making and help SEAs improve productivity and reduce costs across classrooms, schools, districts, and States; and

2. Building the organizational capacity of SEAs to support district- and school-level implementation of initiatives designed to improve student outcomes by helping SEAs—

a. Build collaborative and productive relationships with their LEAs; provide technical assistance that builds the capacity of its LEAs; facilitate the sharing of research-based practices, emerging promising practices, and problem-solving strategies among LEAs; and identify ways in which the SEA can help its LEAs scale up effective practices;

b. Identify and implement a continuum of supports and interventions to address the needs of districts and schools;

c. Develop processes to identify and select effective external partners and monitor their progress in achieving stated goals and objectives; and

d. Engage and provide information to key stakeholders, including parents, on the implementation of key initiatives.

J. Proposed Requirements for the Center on Innovations in Learning

In addition to the proposed requirements for all centers and for all Content Centers described in this notice, the Center on Innovations in Learning must provide technical assistance to Regional Centers and SEAs that focuses on—

1. Identifying and implementing policies, strategies, and practices that encourage the identification and scaling up of new teaching and learning strategies, approaches, processes, or tools that significantly improve, or have the potential to significantly improve, student outcomes—for example, through analyzing State and district data to identify positive trends or unique patterns that indicate significant improvement, or the potential for significant improvement, in student outcomes; helping States use competitions to identify the most promising innovations; helping States rigorously evaluate promising innovations; and supporting States' broad adoption of the most promising and proven innovations and the replacement of less effective programs and practices;

2. Identifying and implementing policies, strategies, and practices that encourage improved student outcomes through personalization of learning for each student—for example, by helping SEAs, LEAs, and schools provide opportunities for self-paced learning, implement instructional approaches and subject matter matched to students needs and interests, and increase access to experts, teachers, and peers who can address specific student needs and interests;

3. Selecting and implementing technologies that support the personalization of learning—for example, (a) data systems that allow teachers to better differentiate instruction and instructional resources for maximum effectiveness and (b) adaptive instructional systems that enable students to optimize the pace of learning and individualize the instructional content they need to achieve mastery;

4. Using State and local data systems to identify specific areas of student need and evaluate the effectiveness of specific strategies that support innovations in learning—for example, practices that improve student learning outcomes, that increase the number of individuals served without increasing resources, or that maintain educational outcomes and the number of students served while using fewer resources; and

5. Identifying and implementing policies and practices that accelerate the adoption of promising and proven personalized learning strategies, practices, and tools.

K. Proposed Application Requirements

1. Technical Assistance Plan

An applicant for a Regional Center must submit as part of its application a five-year plan of technical assistance that describes how it will meet the program requirements for all centers and for Regional Centers. An applicant for a Content Center must submit as part of its application a five-year plan of technical assistance that describes how it will meet the program requirements for all centers, the general requirements for all Content Centers, and the applicable Content Center requirements described in this notice.

2. Subject-Matter and Technical Expertise

An applicant for a Regional or Content Center must provide a narrative describing the subject-matter and technical expertise of proposed center staff, including any partners and consultants. At a minimum, the narrative must include the names and resumes for the proposed center staff.

a. All Centers. An applicant for a Regional or Content Center must provide evidence in its application demonstrating that the proposed center staff, including any partners and consultants, possesses—

i. Knowledge and understanding of the research-based practices and emerging promising practices that will enable the applicant to provide high-quality technical assistance specifically related to building SEA capacity to implement State-level initiatives and to support district- and school-level initiatives that improve educational outcomes for all students, close achievement gaps, and improve the quality of instruction; and

ii. Experience in the following:

(a) Delivering high-quality, relevant technical assistance and sharing expertise with SEAs or multiple districts. An applicant must provide evidence of the effect that its technical assistance has had on SEAs or LEAs, such as improved student outcomes, increased organizational capacity, the establishment of effective structures or processes, or high levels of client satisfaction.

(b) Supporting SEAs or multiple districts in implementing key initiatives and in making systemic changes beyond individual districts or schools.

(c) Building collaborative relationships with leading experts and organizations in applicable areas of expertise to increase the quality, relevance, and usefulness of technical assistance.

b. Regional Centers. In addition to the subject-matter and technical expertise outlined for all center applicants, an applicant for a Regional Center must provide evidence in its application demonstrating that the proposed center staff, including any partners and consultants, possesses—

i. Knowledge and understanding of—

(a) The context and status of education reform in each of the States the applicant would serve;

(b) Leading research on implementing educational initiatives and practices and on how to help SEAs implement, support, scale up, and sustain practices that address identified problems;

(c) LEA support systems within States the applicant would serve, such as networks of educational service agencies and third-party systems of support, and how to use those systems to provide high-quality support to districts and schools; and

ii. Experience in the following:

(a) Working with SEAs or multiple districts to implement comprehensive or innovative plans to improve student achievement or provide large-scale technical assistance focused on improving student outcomes.

(b) Developing and implementing performance and project management systems on a large scale or in large, complex, public-sector institutions.

(c) Facilitating communities of practice within and across States.

c. Center on Standards and Assessments Implementation. In addition to the subject-matter and technical expertise outlined for all centers, an applicant for the Center on Standards and Assessments Implementation must provide evidence in its application demonstrating that the proposed center staff, including any partners and consultants, possesses—

i. Knowledge and understanding of—

(a) The Common Core State Standards and other college- and career-ready standards that States have adopted, including detailed knowledge and understanding of the differences in expectations embedded in these standards compared to those embedded in current State standards;

(b) The work of the Smarter Balanced assessment consortium and the Partnership for Assessment of Readiness for College and Careers (PARCC) assessment consortium, as well as other State-developed assessments that are linked to college- and career-ready standards, including assessment designs and the status of efforts to develop and pilot the new assessments; and

(c) Instructional strategies and high-quality curricula that are aligned with rigorous college- and career-ready standards and support the teaching and learning of all students, including English Learners, students with disabilities, and low-achieving students; and

ii. Experience in the following:

(a) Working successfully with SEAs or multiple districts on the implementation of new standards or assessments.

(b) Working with experts and practitioners involved in college- and career-ready assessment efforts supported by States, such as the Smarter Balanced or PARCC assessment consortia.

(c) Working with SEAs or multiple districts in aligning curricular and instructional options, as well as teacher and leader professional development, with new, more rigorous standards.

(d) Working with SEAs, LEAs, or school policymakers and practitioners on the interpretation and appropriate use of assessment data.

d. Center on Great Teachers and Leaders. In addition to the subject-matter and technical expertise outlined for all centers, an applicant for the Center on Great Teachers and Leaders must provide evidence in its application demonstrating that the proposed center staff, including any partners and consultants, possesses—

i. Knowledge and understanding of—

(a) Teacher and leader professional development that improves instruction and helps students meet college- and career-ready standards;

(b) Strategies to improve teacher and leader recruitment and retention;

(c) Designing or improving teacher and leader human capital management systems, including teacher and leader evaluation and support systems, that are based in significant part on student growth, differentiate performance, include multiple measures of effectiveness, inform professional development, and focus on continuous improvement of instruction; and

(d) The broad range of SEA and district teacher and leader human capital management systems, State policies that facilitate or hinder the development of such high-quality systems, and possible barriers to the equitable distribution of effective teachers and leaders; and

ii. Experience in the following:

(a) Working successfully with SEAs or multiple districts on improving the quality of instruction statewide or across multiple districts.

(b) Working collaboratively with teacher and leader preparation organizations, institutions of higher education, charter management organizations, or other teacher and leader preparation and development groups to develop, implement, or improve teacher and leader human capital management systems, including teacher and leader evaluation and support systems.

e. Center on School Turnaround. In addition to the subject-matter and technical expertise outlined for all centers, an applicant for the Center on School Turnaround must provide evidence in its application demonstrating that the proposed center staff, including any partners and consultants, possesses—

i. Knowledge and understanding of—

(a) The approaches States, districts, and schools are taking to turn around their lowest-performing schools, including efforts under the School Improvement Grants and Race to the Top programs; and

(b) Emerging promising practices, including non-academic practices that impact student outcomes, for improving student outcomes in the lowest-performing schools, particularly those engaged in school turnaround efforts; and

ii. Experience working with SEAs or multiple districts on school turnaround efforts, including helping SEAs or multiple districts develop and implement structures or systems that promote and sustain comprehensive district and school reforms and processes and tools to monitor turnaround efforts.

f. Center on Enhancing Early Learning Outcomes. In addition to the subject-matter and technical expertise outlined for all centers, an applicant for the Center on Enhancing Early Learning Outcomes must provide evidence in its application demonstrating that the proposed center staff, including any partners and consultants, possesses—

i. Knowledge and understanding of—

(a) State early learning and development standards that define what children should know and be able to do from birth through third grade;

(b) Principles and approaches to appropriately assess young children's knowledge and skills from birth through third grade, including expertise in the field of psychometrics; and

(c) The issues related to improving the workforce serving children from birth through third grade, including issues related to workforce competencies, certifications, and compensation; and

ii. Experience in the following:

(a) Providing technical assistance to SEAs or multiple districts on selecting, using, and interpreting the results of early childhood assessments.

(b) Assisting SEAs or multiple districts on building an effective early childhood workforce.

g. Center on College and Career Readiness and Success. In addition to the subject-matter and technical expertise outlined for all centers, an applicant for the Center on College and Career Readiness and Success must provide evidence in its application demonstrating that the proposed center staff, including any partners and consultants, possess—

i. Knowledge and understanding of—

(a) Research-based practices and emerging promising practices that support the successful transition of all students from secondary education to college, without the need for remediation, and to careers;

(b) Rigorous career and technical education programs of study that align with college- and career-ready standards; and

(c) High-quality STEM instructional pathways that lead to a postsecondary degree or certification in STEM fields; and

ii. Experience in the following:

(a) Working with SEAs or multiple districts to design and implement systemic, comprehensive strategies that promote college- and career-readiness for K-12 students and students' successful transition from high school graduation to postsecondary education and the workforce.

(b) Helping SEAs address the systemic needs and challenges they and their LEAs face in ensuring that all students graduate from high school prepared for college and careers, particularly in high-poverty, high-minority, urban, and rural settings.

(c) Working with K-12 and postsecondary education systems to align policies and practices in order to improve student transitions from high school to postsecondary degree or credential programs.

h. Center on Building State Capacity and Productivity. In addition to the subject-matter and technical expertise outlined for all centers, an applicant for the Center on Building State Capacity and Productivity must provide evidence in its application demonstrating that the proposed center staff, including any partners and consultants, possesses—

i. Knowledge and understanding of—

(a) SEA organizational structures that are effective in supporting district- and school-level implementation of effective practices to improve student outcomes;

(b) The relationship of an SEA to its LEAs and the differing resources and capacities that exist across LEAs;

(c) Research-based practices and emerging promising practices in using LEA support systems in States, such as networks of educational service agencies and third-party systems of support, in order to provide high-quality support to districts and schools; and

(d) Leading research in performance and project management, including research conducted in non-education sectors and industries; and

ii. Experience in the following:

(a) Working with SEAs to successfully implement programs or initiatives statewide or in multiple districts.

(b) Providing in-depth coaching and advice to SEA leaders on improving internal organizational capacity or the capacity to support district- and school-level implementation of effective practices in order to improve student outcomes.

(c) Facilitating communities of practice within and across States.

(d) Working with large-scale organizations, especially public-sector organizations that work with multiple constituencies and stakeholders, on performance and project management.

i. Center on Innovations in Learning. In addition to the subject-matter and technical expertise outlined for all centers, an applicant for the Center on Innovations in Learning must provide evidence in its application demonstrating that the proposed center staff, including any partners and consultants, possesses—

i. Knowledge and understanding of—

(a) Policies, strategies, and practices that encourage the identification and scaling up of new teaching and learning strategies, approaches, processes, or tools that significantly improve, or have the potential to significantly improve, student outcomes; and

(b) Policies, strategies, and practices that encourage improved student outcomes through personalization of learning and through implementing technologies that support the personalization of learning; and

ii. Experience in the following:

(a) Working with SEAs on identifying and implementing policies, strategies, and practices that encourage the identification and scaling up of new teaching and learning strategies, approaches, processes, or tools that significantly improve, or have the potential to significantly improve, student outcomes.

(b) Working with SEAs or LEAs on identifying and implementing policies, strategies, and practices that encourage improved student outcomes through personalization of learning, including selecting or developing and implementing technologies that support personalized learning.

3. Management Plan

An applicant must submit a management plan that describes the responsibilities of key personnel, timelines, and milestones for accomplishing project tasks; the time commitment of key personnel; and the adequacy and allocation of resources, including financial or in-kind matching contributions from an entity or organization in the public or private sector, if any. If an applicant's proposed budget includes matching contributions, the application must include evidence of a commitment for the full amount of the matching contribution, inclusive of the source of the funds or in-kind contributions and the date(s) they will be received.

4. Evaluation Plan

Each applicant must provide a plan to engage a third-party provider to assess the progress and performance of the center in meeting the educational and capacity-building needs of SEAs. The plan must identify performance objectives the project intends to achieve and performance measures for each performance objective; explain the quantitative and qualitative methods that will be used to collect, analyze, and report performance data; and describe the methods that will be used to monitor progress and make mid-course corrections as needed. Each center must also provide a plan to collect and use reliable formative and summative data throughout the grant period to inform and improve service delivery.

IV. Proposed Flexibility and Requirements for Regional Assignments

Background. Currently, the Department funds 16 Regional Centers that serve States within defined geographic boundaries. In order to implement customer-centered, performance-focused technical assistance across the Regional Centers and provide States with the opportunity to create a demand-driven market for services, the Assistant Secretary is considering modifying the regional structure of the Comprehensive Centers to allow States greater choice about the Regional Centers with which they affiliate. Modifying the current structure would allow an SEA to seek services from the Regional Center that it believes will best meet its needs, regardless of its geographic location, and strengthen the incentives for Regional Centers to provide relevant and high-quality technical assistance. However, modifying the current structure could make planning and staffing of Regional Centers difficult (e.g., because of uncertainty regarding a center's level of funding) and lead to gaps in service as a State transitions to a new Regional Center. It could also deter collaboration among Regional Centers, which might adversely affect the quality of technical assistance provided.

Given the potential advantages and disadvantages of providing such an option for States, the Department is particularly interested in receiving comments on the following proposed requirements.

Proposed requirements. Under the proposed modified structure, in the second fiscal year of the cooperative agreement, and in each subsequent fiscal year, an SEA could indicate to the Department its desire to affiliate with a different Regional Center, regardless of the geographic location of that Center. A State could exercise this option only once in any two-year period.

To exercise this option, a State would notify the Department in writing, not later than 60 days prior to the end of the fiscal year, that it wishes to affiliate with a different Regional Center. The State would provide—

A. Documentation from the proposed Regional Center with which it wants to affiliate that indicates the Center's willingness and capacity to serve the additional State; and

B. Other information that the Department requests.

After considering the documentation and other information, the Department could approve a request if it is consistent with the requirements in section 203(a) of ETAA that (1) there be no fewer than 20 Comprehensive Centers and that (2) there be at least one Comprehensive Center in each of the 10 geographic regions served by the RELs. If the Department approves the request, the Department would re-designate regions served by each Regional Center to reflect any changes in regional membership. The Department would re-allocate the funding to each center, taking into account changes in the number of students served by each Regional Center and other such factors it deems appropriate. The Department would provide notification of any changes through a notice published in the Federal Register.

V. Proposed Selection Criteria

Background: In any competition under this program, the Secretary proposes to use one or more of the selection criteria proposed in this notice, any of the selection criteria in 34 CFR 75.210, criteria based on the statutory requirements for the Comprehensive Centers program in accordance with 34 CFR 75.209, or any combination of these. This includes the authority to reduce the number of selection criteria.

The Secretary may apply one or more of these criteria in any year in which this program is in effect. The Secretary may also select one or more of these selection criteria to review pre-applications, if the Secretary decides to invite pre-applications in accordance with 34 CFR 75.103. In the notice inviting applications, the application package, or both, we will announce the maximum possible points assigned to each criterion.

Proposed Selection Criteria: We propose to use the following selection criteria to evaluate applications under this program.

A. Technical Assistance Plan

1. Overall quality of the technical assistance plan. In determining the overall quality of the technical assistance plan for the proposed center and the likelihood of the center contributing to improved State outcomes, the Secretary considers—

a. The extent to which the proposed technical assistance plan presents an exceptional approach that will likely result in building SEA capacity to implement State-level initiatives and support district- and school-level initiatives that improve educational outcomes for all students, close achievement gaps, and improve the quality of instruction;

b. The potential contribution of the center to increasing the knowledge and understanding of effective strategies in the center's area of expertise; and

c. The extent to which the proposed technical assistance plan presents an approach that will result in the sharing of high-quality, relevant, useful information, materials, and other applicable resources across SEAs, districts, and schools, within and outside of a region.

2. Quality of the Project Design. In determining the quality of the project design of the proposed center for which the applicant is applying, the Secretary considers—

a. The extent to which the applicant's technical assistance plan proposes an exceptional approach to meeting the requirements for all centers, which includes—

i. Providing high-quality technical assistance that is based on up-to-date knowledge and understanding of research-based practices and emerging promising practices; is highly relevant and useful to SEAs, LEAs, and school policymakers and practitioners; and is delivered in a timely, cost-efficient manner;

ii. Focusing technical assistance on helping SEAs build capacity to implement State-level initiatives and support district- and school-level initiatives that improve educational outcomes for all students, close achievement gaps, and improve the quality of instruction; and

iii. Coordinating and collaborating with national experts and technical assistance providers to ensure that the technical assistance is informed by leading-edge research and innovative approaches and avoids duplicating efforts;

b. In the case of an applicant for a Regional Center, the extent to which the applicant's technical assistance plan proposes an exceptional approach to meeting the requirements for all Regional Centers; and

c. In the case of an applicant for a Content Center, the extent to which the applicant's technical assistance plan proposes an exceptional approach to meeting the requirements for all Content Centers, as well as the requirements for the specific Content Center for which the applicant is applying.

3. Knowledge of State Technical Assistance Needs. In determining the applicant's ability to meet State technical assistance needs, the Secretary considers the extent to which the proposed technical assistance plan provides strategies that address the technical assistance needs of States in key areas, as evidenced by in-depth knowledge and understanding of—

a. For Regional Centers, the specific educational goals and priorities of the States to be served by the applicant, including emerging priorities based on State-led reform efforts;

b. For Regional Centers, the applicable State and regional demographics, policy contexts, and other factors and their relevance to improving student outcomes, closing achievement gaps, and improving instruction; and

c. For Content Centers, State technical assistance needs, and research-based practices and emerging promising practices related to the Content Center for which the applicant is applying.

B. Subject-Matter and Technical Expertise

Quality of Key Project Personnel. In determining the subject-matter and technical expertise of key project personnel, the Secretary considers the extent to which the applicant encourages applications for employment from persons who are members of groups that have traditionally been underrepresented based on race, color, national origin, gender, age, or disability. In addition, the Secretary considers—

1. The knowledge, understanding, and experience of key project personnel as outlined under subject-matter and technical expertise requirements for all centers;

2. In the case of an applicant for a Regional Center, in addition to the knowledge, understanding, and experience outlined under subject-matter and technical expertise requirements for all centers, the subject-matter and technical expertise of key personnel outlined under the requirements for Regional Centers;

3. In the case of an applicant for a Content Center, in addition to the knowledge, understanding, and experience outlined under subject-matter and technical expertise requirements for all centers, the subject-matter and technical expertise of key personnel outlined under the requirements for the specific Content Center for which the applicant is applying;

4. The extent to which the applicant has demonstrated experience providing high-quality technical assistance to SEAs or multiple districts;

5. The extent to which the applicant has demonstrated the ability to develop ongoing partnerships with leading experts and organizations nationwide that inform high-quality technical assistance and subject-matter expertise;

6. The extent to which the applicant has prior relevant experience operating a project of the scope required for the purposes of the center being proposed; and

7. The extent to which the applicant proposes an advisory board membership in accordance with the requirements of the ETAA and includes reasonable assurance of proposed board members' commitment to serve.

C. Management and Evaluation Plans

1. Quality of the Management Plan

In determining the quality of the management plan for the proposed center, the Secretary considers—

a. The adequacy of the management plan to achieve the objectives of the project on time and within budget, including clearly defined responsibilities, timelines, and milestones for accomplishing project tasks;

b. The extent to which the time commitments of the project director and other key project personnel, including any partners or consultants, are appropriate and adequate to meet the objectives of the proposed project;

c. The extent to which resources are allocated within a region for Regional Centers, and across regions for Content Centers, in a manner that reflects the need for technical assistance; and

d. The adequacy of the resources for the proposed project, including whether the applicant proposes facilities and equipment to successfully carry out the purposes and activities of the proposed center.

2. Quality of the Project Evaluation Plan

In determining the quality of the evaluation plan, the Secretary considers—

a. The extent to which the applicant demonstrates a strong capacity to provide reliable formative and summative data on performance measures;

b. The extent to which the performance goals and objectives for the project are clearly specified and measurable in terms of the project activities to be accomplished and their stated outcomes;

c. The extent to which the methods for monitoring performance and evaluating the effectiveness of project strategies in terms of outcomes for SEAs, districts, and schools are thorough, feasible, and appropriate to the objectives and outcomes of the proposed project;

d. The extent to which the methods of evaluation will provide continuous performance feedback and encourage the continuous assessment of progress toward achieving intended outcomes; and

e. The extent to which the applicant has a high-quality plan to use both formative and summative data from evaluations to inform and improve service delivery over the course of the grant.

Final Priorities, Requirements, and Selection Criteria

We will announce the final priorities, requirements, and selection criteria in a notice in the Federal Register. We will determine the final priorities, requirements, and selection criteria after considering responses to this notice and other information available to the Department. This notice does not preclude us from proposing additional priorities, requirements, definitions, or selection criteria, subject to meeting applicable rulemaking requirements.

Note: This notice does not solicit applications. In any year in which we choose to use one or more of these proposed priorities, requirements, and selection criteria, we invite applications through a notice in the Federal Register.

Executive Orders 12866 and 13563: Under Executive Order 12866, the Secretary must determine whether this regulatory action is “significant” and therefore subject to the requirements of the Executive Order and subject to review by the Office of Management and Budget (OMB). Section 3(f) of Executive Order 12866 defines a “significant regulatory action” as an action likely to result in a rule that may (1) have an annual effect on the economy of $100 million or more, or adversely affect a sector of the economy, productivity, competition, jobs, the environment, public health or safety, or State, local or tribal governments, or communities in a material way (also referred to as an “economically significant” rule); (2) create serious inconsistency or otherwise interfere with an action taken or planned by another agency; (3) materially alter the budgetary impacts of entitlement grants, user fees, or loan programs or the rights and obligations of recipients thereof; or (4) raise novel legal or policy issues arising out of legal mandates, the President's priorities, or the principles set forth in the Executive Order.

Pursuant to the Executive Order, it has been determined that this regulatory action is significant and subject to OMB review under section 3(f)(4) of the Executive order.

We have also reviewed these regulations under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account— among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, and selection criteria only on a reasoned determination that their benefits justify their costs. In choosing among alternative regulatory approaches, we selected those approaches that maximize net benefits. Based on the analysis that follows, the Department believes that these regulations are consistent with the principles in Executive Order 13563.

Need for Federal Regulatory Action:

The proposed priorities, requirements, and selection criteria are needed to implement the Comprehensive Centers program because the authorizing language in the ETAA provides only broad parameters to govern the program. The Department does not believe that the statute, by itself, provides a sufficient level of detail to ensure that all States can build their capacity to improve educational outcomes for all students. The priorities, requirements, and selection criteria proposed in this notice would clarify the types of centers the Department seeks to fund and permit the Department to evaluate proposed centers using selection criteria that are based on the purpose of the program and are closely aligned with the Department's priorities.

In the absence of specific selection criteria for the Comprehensive Centers program, the Department would use the general selection criteria in 34 CFR 75.210 of the Education Department General Administrative Regulations in selecting grant recipients. However, the Department does not believe the use of those general criteria would be sufficient for a Comprehensive Centers program competition because they do not focus specifically on the objectives of the program, especially the role of the centers in providing technical assistance to States so that they can build their capacity to assist LEAs and schools and, in turn, improve educational outcomes for students.

Regulatory Alternatives Considered:

The Department considered a variety of possible priorities, requirements, and selection criteria before deciding to propose those included in this notice. For example, the Department considered a priority to support knowledge management and dissemination across all Comprehensive Centers. It chose instead to propose requiring each center to collaborate with other Department-funded centers engaged in that type of activity.

The proposed priorities, requirements, and selection criteria reflect and promote the purpose of the Comprehensive Centers program. They also align the program, where possible and permissible, with other Presidential and Departmental priorities. We believe that the proposals in this notice appropriately balance the need for specific programmatic guidance while providing each applicant with flexibility to design and propose an innovative and effective Comprehensive Center. We seek public comment on whether we have achieved an acceptable balance.

Summary of Costs and Benefits:

The Department believes that the proposed priorities, requirements, and selection criteria would not impose significant costs on eligible research organizations, institutions, agencies, institutions of higher education, or partnerships among such entities, or individuals that would receive assistance through the Comprehensive Centers program. We also believe that the benefits of implementing the proposals contained in this notice justify any associated costs.

The Department believes that the proposed priorities, requirements, and selection criteria would result in the selection of high-quality applications to establish centers that are most likely to build the capacity of SEAs in order to improve educational outcomes for all students. Through the regulatory action proposed in this notice, we seek to provide clarity as to the scope of activities we expect to support with program funds and the expected burden of work involved in preparing an application and implementing a center under the program. A potential applicant would need to consider carefully the effort that would be required to prepare a strong application and its capacity to implement a project successfully.

The Department further believes that the costs imposed on an applicant by the proposed priorities, requirements, and selection criteria would be largely limited to paperwork burden related to preparing an application and that the benefits of preparing an application and receiving an award would justify any costs incurred by the applicant. This is because, during the project period, the costs of actually establishing a center and carrying out activities under a Comprehensive Centers program grant would be paid for with program funds and any matching funds. Thus, the costs of establishing a Comprehensive Center using these proposed priorities, requirements, and selection criteria would not be a significant burden for any eligible applicant, including a small entity.

Elsewhere in this section under Paperwork Reduction Act of 1995, we identify and explain burdens specifically associated with information collection requirements.

Accounting Statement:

As required by OMB Circular A-4 (available at http://www.Whithouse.gov/omb/Circulars/a004/a-4.pdf), in the following table, we have prepared an accounting statement showing the classification of the expenditures associated with the provisions of this proposed regulatory action. This table provides our best estimate of the Federal payments to be made to eligible applicants under this program as a result of this proposed regulatory action. This table is based on funds the Department has requested for new awards for this program for FY 2012. The actual level of funding, if any, depends on final congressional action. Expenditures are classified as transfers to those entities listed.

Accounting Statement Classification of Estimated Expenditures:

Category | Transfers (in millions)
Annual Monetized Transfers | $51.2
From Whom to Whom | Federal Government to research organizations, institutions, agencies, institutions of higher education, or partnerships among such entities, or individuals.

Effect on Other Levels of Government:

We have determined that this regulatory action would not unduly interfere with State, local, or tribal governments in the exercise of their governmental functions.

Paperwork Reduction Act of 1995:

As part of its continuing effort to reduce paperwork and respondent burden, the Department conducts a preclearance consultation process to provide the public and Federal agencies with an opportunity to comment on proposed and continuing collections of information in accordance with the Paperwork Reduction Act of 1995 (PRA) (44 U.S.C. 3506(c)(2)(A)). This helps ensure that: the public understands the Department's collection instructions, respondents can provide the requested data in the desired format, reporting burden (time and financial resources) is minimized, collection instruments are clearly understood, and the Department can properly assess the impact of collection requirements on respondents.

We estimate that each applicant would spend approximately 176 hours of staff time to address the proposed priorities, requirements, and selection criteria; prepare the application; and obtain necessary clearances. Based on the number of applications the Department received in the last competition it held under this program (in FY 2005), we expect to receive approximately 65 applications for these funds. The total number of hours for all expected applicants is an estimated 11,440 hours. We estimate the total cost per hour of the applicant-level staff who will carry out this work to be $57 per hour. The total estimated cost for all applicants would be $652,080.

We have submitted an Information Collection Request (ICR) for this collection to OMB. If you want to comment on the proposed information collection requirements, please send your comments to the Office of Information and Regulatory Affairs, OMB, Attention: Desk Officer for U.S. Department of Education. Send these comments by email to OIRA_DOCKET@omb.eop.gov or by fax to (202) 395-6974. You may also send a copy of these comments to the Department contact named in the FOR FURTHER INFORMATION CONTACT section of this notice.

In preparing your comments you may want to review the ICR, which we maintain in the Education Department Information Collection System (EDICS) at http://edicsweb.ed.gov. Click on Browse Pending Collections. In EDICS this proposed collection is identified as 04785. This ICR is also available on OMB's RegInfo Web site at www.reginfo.gov.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

OMB is required to make a decision concerning the collection of information contained in these proposed priorities, requirements, and selection criteria between 30 and 60 days after publication of this document in the Federal Register. Therefore, to ensure that OMB gives your comments full consideration, it is important that OMB receives your comments on the proposed collection within 30 days after publication. This does not affect the deadline for your comments to us on the proposed priorities, requirements, and selection criteria.

Please note that a Federal agency cannot conduct or sponsor a collection of information unless OMB approves the collection under the PRA and the corresponding information collection instrument displays a currently valid OMB control number. Notwithstanding any other provision of law, no person is required to comply with, or is subject to penalty for failure to comply with, a collection of information if the collection instrument does not display a currently valid OMB control number. We will provide the OMB control number when we publish the notice of final priorities, requirements, definitions, and selection criteria.

Regulatory Flexibility Act Certification: The Secretary certifies that this proposed regulatory action will not have a significant economic impact on a substantial number of small entities. The small entities that this proposed regulatory action may affect are eligible research organizations, institutions, agencies, institutions of higher education, or partnerships among such entities, or individuals. The Secretary believes that the costs imposed on an applicant by the proposed priorities, requirements, and selection criteria would be limited to paperwork burden related to preparing an application and that the benefits of implementing these proposals would outweigh any costs incurred by the applicant.

Participation in the Comprehensive Centers program is voluntary. For this reason, the proposed priorities, requirements, and selection criteria would impose no burden on small entities unless they applied for funding under the Comprehensive Centers program using the priorities, requirements, and selection criteria proposed in this notice. We expect that in determining whether to apply for Comprehensive Center funds, an eligible entity would evaluate the requirements of preparing an application and implementing a Comprehensive Center, and any associated costs, and weigh them against the benefits likely to be achieved by implementing a center. An eligible entity would probably apply only if it determines that the likely benefits exceed the costs of preparing an application and implementing a project. The likely benefits of applying for a Comprehensive Center program grant include the potential receipt of a grant as well as other benefits that may accrue to an entity through its development of an application, such as the use of such application to create partnerships with other entities in order to assist State educational agencies.

The U.S. Small Business Administration (SBA) Size Standards define “small entities” as for-profit or nonprofit institutions with total annual revenue below $7,000,000 or, if they are institutions controlled by small governmental jurisdictions (that are comprised of cities, counties, towns, townships, villages, school districts, or special districts), with a population of less than 50,000.

The Secretary believes that the priorities, requirements, and selection criteria proposed in this notice do not impose any additional burden on a small entity applying for a grant than the entity would face in the absence of the proposed action. That is, the length of the applications those entities would submit in the absence of the proposed regulatory action and the time needed to prepare an application would likely be the same.

Further, this proposed regulatory action may help a small entity determine whether it has the interest, need, or capacity to implement activities under the program and, thus, prevent a small entity that does not have such an interest, need, or capacity from absorbing the burden of applying.

This proposed regulatory action would not have a significant economic impact on a small entity once it receives a grant because it would be able to meet the costs of compliance using the funds provided under this program. The Secretary invites comments from small eligible entities as to whether they believe this proposed regulatory action would have a significant economic impact on them and, if so, requests evidence to support that belief.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 18, 2012.
Michael Yudin,
Acting Assistant Secretary for Elementary and Secondary Education.

[FR Doc. 2012-1247 Filed 1-20-12; 8:45 am]

BILLING CODE 4000-01-P